NATIONAL SCIENCE FOUNDATION

Committee on Equal Opportunities in Science and Engineering; Notice of Meeting

In accordance with the Federal Advisory Committee Act, Pub. L. 92-463, as amended, the National Science Foundation announces the following meeting:

Name: Committee on Equal Opportunities in Science and Engineering (#1173).

Date/Time: February 17, 2000, 8 am-5 pm; February 18, 2000, 8:30 am-3 pm.

Place: Room 1295, National Science Foundation, 4201 Wilson Blvd., Arlington, VA.

Type of Meeting: Open.

Contact Person: Bernice Anderson, Executive Secretary, Room 855, NSF, 4201 Wilson Blvd., Arlington, VA 22230. (703) 306-1655 ext. 5819.

Minutes: May be obtained from the contact person at the above address.

Purpose of Meeting: To advise NSF on policies and activities of the Foundation to encourage full participation of women, minorities, and persons with disabilities currently underrepresented in scientific, engineering, professional, and technical fields and to advise NSF concerning implementation of the provisions of the Science and Engineering Equal Opportunities Act.

Agenda:

1. Briefing on Congressional Activities related to science and engineering, including briefing on FY 2001 Congressional Budget;

2. Briefing on Graduate Fellowship Program;

3. Planning for CEOSE Biannual report;

4. Update on activities of the Commission on the Advancement of Women and Minorities in Science, Engineering, and Technology Development (CAWMSET).

Dated: February 10, 2000.
Karen J. York,
Committee Management Officer.

[FR Doc. 00-3545 Filed 2-14-00; 8:45 am]

BILLING CODE 7555-01-M